SMALL BUSINESS ADMINISTRATION

[Declaration of Disaster #P054]

State of South Carolina

As a result of the President's major disaster declaration for Public Assistance on September 15, 2004 the U.S. Small Business Administration is activating its disaster loan program only for private non-profit organizations that provide essential services of a governmental nature. I find that Berkeley, Charleston and Williamsburg Counties in the State of South Carolina constitute a disaster area due to damages caused by Tropical Storm Gaston occurring on August 28-30, 2004. Applications for loans for physical damage as a result of this disaster may be filed until the close of business on November 15, 2004 at the address listed below or other locally announced locations:

U.S. Small Business Administration, Disaster Area 2 Office, One Baltimore Place, Suite 300, Atlanta, GA 30308.

The interest rates are:

| Percent
For Physical Damage:
Non-Profit Organizations without credit available elsewhere | 2.900
Non-Profit Organizations with credit available elsewhere | 4.875

The number assigned to this disaster for physical damage is P05408.

(Catalog of Federal Domestic Assistance Program Nos. 59008).
Dated: September 28, 2004.
Herbert L. Mitchell,
Associate Administrator for Disaster Assistance.

[FR Doc. 04-22381 Filed 10-5-04; 8:45 am]

BILLING CODE 8025-01-P